DEPARTMENT OF JUSTICE

Notice of Lodging of First Amended Consent Decree Under the Clean Water Act

Notice is hereby given that on June 27, 2007, a proposed First Amended Consent Decree in United States, et al. v. James H. Pflueger, et al., Case No. CV 06-00140 BMK (D. Hawaii), relating to allegations of Clean Water Act violations at Defendants' properties on the Island of Kauai, Hawaii, was lodged with the United States District Court for the District of Hawaii.

The proposed First Amended Consent Decree is an amendment of a settlement of claims for civil penalties and injunctive relief brought against Defendants James H. Pflueger, Pflueger Properties, and Pila'a 400 LLC pursuant to the Clean Water Act, 33 U.S.C. 1251-1387, and Section 13 of the Rivers and Harbors Act of 1899, 33 U.S.C. 407, for the unauthorized discharge into waters of the United States of both fill and storm water runoff associated with their construction activities. The proposed First Amended Consent Decree revises construction schedules for certain remedial work required by the Decree and adds a new status report requirement regarding the work.

The Department of Justice will receive for a period of thirty (30) days from the date of this publication comments relating to the First Amended Consent Decree. Comments should be addressed to the Assistant Attorney General, Environment and National Resources Division, and either e-mailed to pubcommentees.enrd@usdoj.gov, or mailed to P.O. Box 7611, U.S. Department of Justice, Washington, DC 20044-7611, with a copy to Robert Mullaney, U.S. Department of Justice, 301 Howard Street, Suite 1050, San Francisco, CA 94105, and should refer to United States, et al. v. James H. Pflueger, et al., D.J. Ref. 90-5-1-1-07871.

The First Amended Consent Decree may be examined at U.S. EPA Region 9, Office of Regional Counsel, 75 Hawthorne Street, San Francisco, California. During the public comment period, the First Amended Consent Decree may also be examined on the following Department of Justice Web site: http://www.usdoj.gov/enrd/Consent_Decrees.html. A copy of the First Amended Consent Decree may also be obtained by mail from the Consent Decree Library, P.O. Box 7611, U.S. Department of Justice, Washington, DC 20044-7611, or by faxing or e-mailing a request to Tonia Fleetwood (tonia.fleetwood@usdoj.gov), fax number (202) 517-0097, phone confirmation number (202) 514-1547. In requesting a copy from the Consent Decree Library, please enclose a check in the amount of $34.75 (25 cents per page reproduction cost) payable to the U.S. Treasury or, if by e-mail or fax, forward a check in that amount to the Consent Decree Library at the stated address.

Henry Friedman
Assistant Chief, Environmental. Enforcement Section. Environment and National Resources Division.

[FR Doc. 07-3372 Filed 7-10-07; 8:45 am]

BILLING CODE 4410-15-M